DEPARTMENT OF THE INTERIOR

National Park Service

Notice of Continuation of Visitor Services

AGENCY: National Park Service, Interior.

ACTION: Public Notice.

DATES: Effective Date: September 21, 2009.

FOR FURTHER INFORMATION CONTACT: Jo A. Pendry, Chief, Commercial Services Program, National Park Service, Washington, DC 20240, Telephone, 202/513-7156.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
LAME004-88 | Lake Mead Ferry Service | Lake Mead National Recreation Area.
LARO003-92 | Colville Tribal Enterprise, Corporation | Lake Roosevelt National Recreation Area.
OLYM003-82 | Forever NPC Resorts, LLC | Olympic National Park.

FOR FURTHER INFORMATION CONTACT: Jo A. Pendry, Chief, Commercial Services Program, National Park Service, Washington, DC, 20240, Telephone 202/513-7156.

Dated: October 13, 2009.
Katherine H. Stevenson,
Assistant Director, Business Services.

[FR Doc. E9-26480 Filed 11-4-09; 8:45 am]

BILLING CODE 4312-53-M